DEPARTMENT OF LABOR

Employment and Training Administration

[TA-W-60,006]

Bosch Sumter Plant; Automotive Technology Chassis Division Including Onsite Leased Workers From Huffmaster Company, IH Services and Olsten Staffing; Sumter, SC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on September 22, 2006, applicable to workers of Bosch Sumter Plant, Automotive Technology Chassis Division, including onsite leased workers from Huffmaster Company, IH Services, and Olsten Staffing, Sumter, South Carolina. The notice was published in the Federal Register on October 2, 2006 (71 FR 58011-58012).

At the request of the State agency, the Department reviewed the certification for workers of the subject firm. The workers produce automotive brakes and brake boosters.

The review shows that this same worker group was certified eligible to apply for adjustment assistance under petition number TA-W-55,227, which expired on August 2, 2006.

In order to avoid an overlap in worker group coverage, the Department is amending the current certification for workers of Bosch Sumter Plant, Automotive Technology Chassis Division, including onsite leased workers from Huffmaster Company, IH Services, and Olsten Staffing, Sumter, South Carolina, to change the impact date from September 22, 2005 to August 3, 2006.

The amended notice applicable to TA-W-60,006 is hereby issued as follows:

All workers of Bosch Sumter Plant, Automotive Technology Chassis Division, Sumter, South Carolina, including onsite leased workers of Huffmaster Company, IH Services and Olsten Staffing, who became totally or partially separated from employment on or after August 3, 2006 through September 22, 2008, are eligible to apply for adjustment assistance under section 223 of the Trade Act of 1974, and are also eligible to apply for alternative trade adjustment assistance under section 246 of the Trade Act of 1974.

Signed at Washington, DC, this 4th day of October, 2006.
Richard Church,
Certifying Officer, Division of Trade Adjustment Assistance.

[FR Doc. E6-17110 Filed 10-13-06; 8:45 am]

BILLING CODE 4510-30-P